DEPARTMENT OF ENERGY

Federal Energy Regulatory Commission

Comined Notice of Filings #1

January 3, 2007.

Docket Numbers: EC07-41-000.

Applicants: Scottish Power plc; PPM Enrgy, Inc.; Big Horn Wind Project LLC; Casselman Windpower LLC; Colorado Green Holdings LLC; Eastern Desert Power LLC; Elk River Wind LLC; Flat Rock Windpower LLC; Flat Rock Windpower II LLC; Flying Cloud Power Partners, LLC; Klamath Generation LLC; Klondike Wind Power LLC; Klondike Wind Power II LLC; Klondike Wind Power III LLC; Leaning Juniper Wind Power LLC; MinnDakota Wind LLC; Moraine Wind LLC; Mountain View Power Partners III, LLC; Phoenix Wind Power LLC; Shiloh I Wind Project, LLC; Trimont Wind I LLC; Twin Buttes Wind LLC; Iberdrola, S.A.

Description: Joint application of Scottish Power plc et al for authorization for indirect disposition of jurisdictional facilities and requests for waiver of filing requirements and expedited consideration.

Filed Date: 12/22/2006.

Accession Number: 20061227-0070.

Comment Date: 5 p.m. Eastern Time on Friday, January 12, 2007.

Docket Numbers: EC07-42-000.

Applicants: BBPOP Wind Equity LLC; Babcock & Brown Wind Partners U.S. LLC; B&B Wind Portfolio I LLC; Mendota Hills, LLC; Allegheny Ridge Wind Farm, LLC; North Allegheny Wind, LLC; Argonne Wind LLC; GSG, LLC.

Description: BBPOP Wind Equity LLC et al submits an application for authorization of indirect disposal of jurisdictional facilities pursuant to Section 203 of the FPA.

Filed Date: 12/22/2006.

Accession Number: 20061227-0071.

Comment Date: 5 p.m. Eastern Time on Friday, January 12, 2007.

Docket Numbers: EC07-43-000.

Applicants: LSP Energy Limited Partnership; Complete Energy Holdings, LLC.

Description: LSP Energy Limited Partnership and Complete Energy Holdings, LLC submit a joint application for authorization of the disposition of jurisdictional facilities.

Filed Date: 12/22/2006.

Accession Number: 20061228-0100.

Comment Date: 5 p.m. Eastern Time on Friday, January 12, 2007.

Docket Numbers: EC07-44-000.

Applicants: Entegra Power Group LLC; Gila River Power, L.P.; Union Power Partners, L.P.

Description: Entegra Power Group LLC et al, submit an application for order amending blanket authorization for certain future transfers and acquisitions of equity interests under Section 203 of the Federal Power Act.

Filed Date: 12/28/2006.

Accession Number: 20070103-0125.

Comment Date: 5 p.m. Eastern Time on Thursday, January 18, 2007.

Take notice that the Commission received the following electric rate filings

Docket Numbers: ER96-719-015; EL05-59-003.

Applicants: MidAmerican Energy Company.

Description: MidAmerican Energy Company submits a refund report.

Filed Date: 12/22/2006.

Accession Number: 20061222-5024.

Comment Date: 5 p.m. Eastern Time on Friday, January 12, 2007.

Docket Numbers: ER00-1053-019.

Applicants: Maine Public Service Company.

Description: Maine Public Service Co. submits a revised Open Access Transmission Tariff pages and a Settlement Agreement regarding its Formula Rate and its 2006 Informational Filing.

Filed Date: 12/22/2006.

Accession Number: 20061226-0202.

Comment Date: 5 p.m. Eastern Time on Friday, January 12, 2007.

Docket Numbers: ER03-345-008.

Applicants: New England Power Pool Participants Committee

Description: ISO New England, Inc. submits its Semi-Annual Status Report on load response programs in accordance with FERC's 2/25/03 Order.

Filed Date: 12/29/2006.

Accession Number: 20070103-0128.

Comment Date: 5 p.m. Eastern Time on Friday, January 19, 2007.

Docket Numbers: ER05-1178-007; ER05-1191-007.

Applicants: Gila River Power, L.P.; Union Power Partners, L.P.

Description: Gila River Power, LP and Union Power Partners L.P. submit a notice of non-material change in status relating to their upstream ownership structure pursuant to Section 35.27(c) of FERC's Rules and Regs.

Filed Date: 12/29/2006.

Accession Number: 20070103-0132.

Comment Date: 5 p.m. Eastern Time on Friday, January 19, 2007.

Docket Numbers: ER06-185-006.

Applicants: New York Independent System Operator, Inc.

Description: New York Independent System Operator, Inc. submits worksheets that detail the results of its Real-Time guarantee payment impact test for the period from 5/1/05 to 4/7/06 pursuant to FERC's 11/3/06 Order.

Filed Date: 12/29/2006.

Accession Number: 20070103-0131.

Comment Date: 5 p.m. Eastern Time on Friday, January 19, 2007.

Docket Numbers: ER06-451-017.

Applicants: Southwest Power Pool, Inc.

Description: Southwest Power Pool, Inc. submits materials demonstrating its readiness to deploy its Energy Imbalance Services market, to become effective 2/1/07.

Filed Date: 12/22/2006.

Accession Number: 20070103-0134.

Comment Date: 5 p.m. Eastern Time on Monday, January 8, 2007.

Docket Numbers: ER07-314-001.

Applicants: Southwest Power Pool, Inc.

Description: Southwest Power Pool, Inc submits a supplement to their filing of revised Network Integration Transmission Service Agreement.

Filed Date: 12/27/2006.

Accession Number: 20061228-0193.

Comment Date: 5 p.m. Eastern Time on Wednesday, January 17, 2007.

Docket Numbers: ER07-379-000.

Applicants: Southern California Edison Company.

Description: Southern California Edison Co submits a Small Generator Interconnection Agreement and a Service Agreement for Wholesale Distribution Service with MM Tulare Energy LLC.

Filed Date: 12/28/2006.

Accession Number: 20061229-0076.

Comment Date: 5 p.m. Eastern Time on Thursday, January 18, 2007.

Docket Numbers: ER07-380-000; ER06-319-004; ER06-1136-001; ER06-1550-001.

Applicants: PJM Interconnection, L.L.C.

Description: PJM Interconnection, LLC submits revisions to Schedule 2 of the PJM Open Access Transmission Tariff.

Filed Date: 12/28/2006.

Accession Number: 20070103-0120.

Comment Date: 5 p.m. Eastern Time on Thursday, January 18, 2007.

Docket Numbers: ER07-381-000.

Applicants: Electric Energy, Inc.

Description: Electric Energy, Inc submits modification 18 to a Power Contract dated 9/2/87 with the United States Department of Energy designated as Contract # DE-AC05-760R01312 (Rate Schedule FERC 10).

Filed Date: 12/28/2006.

Accession Number: 20070103-0121.

Comment Date: 5 p.m. Eastern Time on Thursday, January 18, 2007.

Docket Numbers: ER07-382-000.

Applicants: Southwest Power Pool, Inc.

Description: Southwest Power Pool Inc submits a Revised Agreement for Wholesale Distribution Service Charges between Kansas Electric Power Cooperative Inc and the Empire District Electric Company.

Filed Date: 12/28/2006.

Accession Number: 20070103-0122.

Comment Date: 5 p.m. Eastern Time on Thursday, January 18, 2007.

Docket Numbers: ER07-383-000.

Applicants: PacifiCorp.

Description: PacifiCorp submits proposed revisions to its Large Generator Interconnection Agreement designated as Exhibit A—First Rev Sheet 428 to FERC Electric Tariff, Substitute 6th Rev Volume 11 to become effective 12/29/06.

Filed Date: 12/28/2006.

Accession Number: 20070103-0123.

Comment Date: 5 p.m. Eastern Time on Thursday, January 18, 2007.

Docket Numbers: ER07-384-000.

Applicants: Midwest ISO.

Description: Midwest Independent Transmission System Operator, Inc submits proposed revisions to Schedules 10, 16 and 17 of their Open Access Transmission and Energy Markets Tariff.

Filed Date: 12/28/2006.

Accession Number: 20070103-0124.

Comment Date: 5 p.m. Eastern Time on Thursday, January 18, 2007.

Docket Numbers: ER07-386-000.

Applicants: San Diego Gas & Electric Company.

Description: San Diego Gas & Electric submits a change in rates for the Transmission Revenue Balancing Account Adjustment and its Transmission Owner Tariff, to become effective 1/2/06.

Filed Date: 12/29/2006.

Accession Number: 20070103-0080.

Comment Date: 5 p.m. Eastern Time on Friday, January 19, 2007.

Docket Numbers: ER07-387-000.

Applicants: New England Power Pool Participants Committee

Description: The New England Power Pool Participants Committee submits a transmittal letter along with counterpart signature pages of the New England Power Pool Agreement executed with Conectiv Energy Supply Inc et al.

Filed Date: 12/29/2006.

Accession Number: 20070103-0133.

Comment Date: 5 p.m. Eastern Time on Friday, January 19, 2007.

Docket Numbers: ER07-388-000.

Applicants: New York Independent System Operator, Inc.; New York State Electric & Gas Corporation.

Description: New York Independent System Operator Inc et al. submit an executed Standard Large Generator Interconnection Agreement for the Munnsville Wind Farm Project.

Filed Date: 12/29/2006.

Accession Number: 20070103-0129.

Comment Date: 5 p.m. Eastern Time on Friday, January 19, 2007.

Docket Numbers: ER07-390-000.

Applicants: Nevada Solar One, LLC.

Description: Nevada Solar One, LLC submits an application for order granting market-based rate authority, waiving regulations and granting blanket approvals, the proposed market-based rate tariff.

Filed Date: 12/29/2006.

Accession Number: 20070103-0130.

Comment Date: 5 p.m. Eastern Time on Friday, January 19, 2007.

Docket Numbers: ER07-391-000.

Applicants: Dynegy Midwest Generation, Inc.

Description: Dynegy Midwest Generation Inc submits an Amended and Restated Black Start Service Agreement dated as of 12/27/06 by and between Illinois Power Company dba AmerenIP.

Filed Date: 12/29/2006.

Accession Number: 20070103-0135.

Comment Date: 5 p.m. Eastern Time on Friday, January 19, 2007.

Docket Numbers: ER07-393-000.

Applicants: MidAmerican Energy Company.

Description: MidAmerican Energy Company submits its First Revised Sheet 10 to their FERC Electric Rate Schedule 72, Contract for Firm Transmission Service, with Western Area Power Administration.

Filed Date: 12/29/2006.

Accession Number: 20070103-0137.

Comment Date: 5 p.m. Eastern Time on Friday, January 19, 2007.

Docket Numbers: ER07-394-000.

Applicants: MidAmerican Energy Company.

Description: MidAmerican Energy Company submits its First Revised Sheets 11, 12, 15-18 and Original Sheet 12a to Original Service Agreement 260 with Eldridge Electric and Water Utilities.

Filed Date: 12/29/2006.

Accession Number: 20070103-0138.

Comment Date: 5 p.m. Eastern Time on Friday, January 19, 2007.

Docket Numbers: ER07-395-000.

Applicants: ALLETE, Inc.

Description: ALLETE, Inc submits two service agreements establishing the rates, terms and conditions pursuant to which the transmission function of MP Transmission.

Filed Date: 12/29/2006.

Accession Number: 20070103-0139.

Comment Date: 5 p.m. Eastern Time on Friday, January 19, 2007.

Docket Numbers: ER07-396-000.

Applicants: Southwest Power Pool, Inc.

Description: Southwest Power Pool, Inc submits revised pages to its Open Access Transmission Tariff.

Filed Date: 12/29/2006.

Accession Number: 20070103-0140.

Comment Date: 5 p.m. Eastern Time on Friday, January 19, 2007.

Docket Numbers: ER07-397-000.

Applicants: ISO New England Inc.; New England Power Pool Participants Committee.

Description: ISO New England, Inc and New England Power Pool Participants Committee submit revised tariff sheets reflecting proposed amendments to Schedule 2—Reactive Supply & Voltage control from Generation Resources Service.

Filed Date: 12/29/2006.

Accession Number: 20070103-0141.

Comment Date: 5 p.m. Eastern Time on Friday, January 19, 2007.

Take notice that the Commission received the following electric securities filings

Docket Numbers: ES07-14-000.

Applicants: International Transmission Company.

Description: International Transmission Company submit an application pursuant to Section 204 for Authority to Issue Securities

Filed Date: 12/29/2006.

Accession Number: 20061229-5049.

Comment Date: 5 p.m. Eastern Time on Friday, January 19, 2007.

Docket Numbers: ES07-15-000.

Applicants: Michigan Electric Transmission Company, LLC.

Description: Michigan Electric Transmission Company, LLC submits an Application under Section 204 for Authority to Issue Securities.

Filed Date: 12/29/2006.

Accession Number: 20061229-5051.

Comment Date: 5 p.m. Eastern Time on Friday, January 19, 2007.

Any person desiring to intervene or to protest in any of the above proceedings must file in accordance with Rules 211 and 214 of the Commission's Rules of Practice and Procedure (18 CFR 385.211 and 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie Salas,
Secretary.

[FR Doc. E7-269 Filed 1-11-07; 8:45 am]

BILLING CODE 6717-01-P